DEPARTMENT OF COMMERCE

National Oceanic and Atmospheric Administration

50 CFR Part 660

RIN 0648-BC28

Fisheries Off West Coast States; West Coast Salmon Fisheries; Notice of Availability for Amendment 17 to the Salmon Fishery Management Plan

AGENCY: National Marine Fisheries Service (NMFS), National Oceanic and Atmospheric Administration (NOAA), Commerce.

ACTION: Availability of amendment to a fishery management plan; request for comments.

SUMMARY: NMFS announces that the Pacific Fishery Management Council (Council) has transmitted Amendment 17 to the Pacific Coast Salmon Fishery Management Plan (FMP) for Secretarial review. Amendment 17 revises the maximum fishing mortality threshold (MFMT) for Quillayute fall coho, revises the FMP to correct typographical errors, updates reporting measures to reflect new technology, and updates or removes other obsolete or unnecessary language.

DATES: Comments on Amendment 17 must be received on or before January 8, 2013.

ADDRESSES: You may submit comments, identified by NOAA-NMFS-2012-0192, by any one of the following methods:

• Electronic Submissions: Submit all electronic public comments via the Federal e-Rulemaking Portal http://www.regulations.gov. To submit comments via the e-Rulemaking Portal, enter NOAA-NMFS-2011-0227 in the search box. Locate the document you wish to comment on from the resulting list and click on the “Submit a Comment” icon on the right of that line.

• Mail: William W. Stelle, Jr., Regional Administrator, Northwest Region, NMFS, 7600 Sand Point Way NE., Seattle, WA 98115-0070 or to Rod McInnis, Regional Administrator, Southwest Region, NMFS, 501 West Ocean Boulevard, Suite 4200, Long Beach, CA 90802-4213.

• Fax: 206-526-6736 Attn: Peggy Mundy, or 562-980-4047 Attn: Heidi Taylor.

Instructions: Comments must be submitted by one of the above methods to ensure that the comments are received, documented, and considered by NMFS. Comments sent by any other method, to any other address or individual, or received after the end of the comment period, may not be considered. All comments received are a part of the public record and will generally be posted for public viewing on http://www.regulations.gov without change. All personal identifying information (e.g., name, address, etc.) submitted voluntarily by the sender will be publicly accessible. Do not submit confidential business information or otherwise sensitive or protected information. NMFS will accept anonymous comments (enter N/A in the required fields if you wish to remain anonymous). Attachments to electronic comments will be accepted in Microsoft Word, Excel, WordPerfect, or Adobe PDF file formats only.

Electronic copies of the amendment may be obtained from the Council Web site at http://pcouncil.org.

FOR FURTHER INFORMATION CONTACT: Peggy Mundy at 206-526-4323, or Heidi Taylor at 562-980-4039.

SUPPLEMENTARY INFORMATION:

The ocean salmon fisheries in the exclusive economic zone off Washington, Oregon, and California are managed under a “framework” fishery management plan entitled the Pacific Coast Salmon Fishery Management Plan (FMP). The Magnuson-Stevens Fishery Conservation and Management Reauthorization Act of 2006 (MSRA) requires that each regional fishery management council submit any FMP or plan amendment it prepares to NMFS for review and approval, disapproval, or partial approval. The MSRA also requires that NMFS, upon receiving an FMP or amendment, immediately publish a notice that the FMP or amendment is available for public review and comment. NMFS will consider the public comments received during the comment period described above in determining whether to approve Amendment 17 to the FMP.

In 2011, the Council transmitted Salmon FMP Amendment 16 to NMFS (76 FR 57945, September 19, 2011). NMFS partially approved Amendment 16 in December 2011. NMFS disapproved the proposed maximum fishing mortality threshold (MFMT) for Quillayute coho. During the review of Amendment 16, a variety of other issues in the FMP were identified as needing revision, largely to correct typographical errors, update notification and reporting measures to reflect new technology, and remove an unnecessary post-final rule comment period from the schedule for annual management measures. Amendment 17 addresses the issue of MFMT for Quillayute coho and well as the other, largely editorial, revisions.

NMFS welcomes comments on the proposed FMP amendment through the end of the comment period. The Council also transmitted a proposed rule to implement Amendment 17 for Secretarial review and approval. NMFS expects to publish and request public review and comment on this rule in the near future. Public comments on the proposed rule must be received by the end of the comment period on the amendment to be considered in the approval/disapproval decision on the amendment. All comments received by the end of the comment period for the amendment, whether specifically directed to the amendment or the proposed rule, will be considered in the approval/disapproval decision.

Authority: 16 U.S.C. 1801 et seq.

Dated: November 5, 2012.
Emily H. Menashes,
Deputy Director, Office of Sustainable Fisheries, National Marine Fisheries Service.

[FR Doc. 2012-27473 Filed 11-8-12; 8:45 am]

BILLING CODE 3510-22-P